DEPARTMENT OF HOMELAND SECURITY

U.S. Customs and Border Protection

[1651-NEW]

Stakeholder Scheduling Application

AGENCY: U.S. Customs and Border Protection (CBP), Department of Homeland Security.

ACTION: 30-day notice and request for comments; this is a new collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than March 25, 2022) to be assured of consideration.

ADDRESSES: Written comments and/or suggestions regarding the item(s) contained in this notice should be sent within 30 days of publication of this notice to www.reginfo.gov/public/do/PRAMain . Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (86 FR 10115) on February 18, 2021, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Stakeholder Scheduling Application.

OMB Number: 1651-NEW.

Current Actions: New collection of information.

Type of Review: This is a new information collection.

Affected Public: Individuals and Businesses.

Abstract: The Stakeholder Scheduling capability is a mobile application within the “CBP One™” app that will standardize and automate the manual process of brokers and travelers making and updating appointments with CBP for various services. Currently, Customs and Border Protection Officers (CBPOs) and CBP Agriculture Specialists (CBPAS) spend significant time exchanging phone calls, faxes, and emails from stakeholders to schedule inspection services. This includes inspections of perishable cargo, non-perishable cargo that have been identified for mandatory examinations, and commercial vessel and commercial or private air arrivals. Based on security vetting, CBP notifies stakeholders that certain cargo requires a scan by CBP Non-Intrusive Inspection technology prior to release. Stakeholders then schedule with CBP a time and location for the scans to be conducted. Pilots and other stakeholders contact CBP to schedule a time and location for the inspections of commercial and private carriers (including occupants) or commercial vessels upon arrival from foreign countries. Additionally, travelers who carry-on sensitive agriculture via air carrier are required to be inspected by CBP and they must notify CBP prior to their arrival into the United States.

The following legal authorities permit CBP's collection of border crossing information: Intelligence Reform and Terrorism Prevention Act of 2004 (IRTPA), Pub. L. 108-458, 118 Stat. 3638; Immigration and Nationality Act, as codified at 8 U.S.C. 1185 and 1354; Aviation and Transportation Security Act of 2001 (ATSA); Enhanced Border Security and Visa Reform Act of 2002; and Tariff Act of 1930 as amended, 19 U.S.C. 66, 1433, 1459, 1485, 1624, and 2071.

Type of Information Collection: Stakeholder Scheduling Application

Estimated Number of Respondents: 2,000.

Estimated Number of Annual Responses per Respondent: 127.

Estimated Number of Total Annual Responses: 254,000.

Estimated Time per Response: 2 minutes.

Estimated Total Annual Burden Hours: 8,467.

Dated: February 17, 2022.
Seth D. Renkema,
Branch Chief, Economic Impact Analysis Branch, U.S. Customs and Border Protection.

[FR Doc. 2022-03816 Filed 2-22-22; 8:45 am]

BILLING CODE P